FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel—Operating Common Carrier—Ocean Transportation Intermediary Applicants:

Infinite Logistics Service Corp., 450 E. Carson Plaza Drive, Suite 217, Carson, CA 90746. Officer: Richard Tsiu, President (Qualifying Individual).

Seven Seas Shipping USA, Inc., 33 Partisan Place, Irvine, CA 92602. Officer: Hansel D'Souza, President (Qualifying Individual).

Non-Vessel—Operating Common Carrier and Ocean Freight Forwarder Transportation Intermediary Applicants:

JB & C Group LLC dba JBC Business Service, dba JBC Shipping Services, 7015 Greenville Ave., #150, Dallas, TX 75231. Officers:Joe Onyema, President (Qualifying Individual).

K.B.B. Shipping Inc., 1145 Nostrand Avenue, Brooklyn, NY 11225. Officers:Kamal Abdul-Alemm, Treasurer (Qualifying Individual), Stanley Ballantyne, President.

BYG Services, Inc., 22926 Travis Street, Lake Forest, CA 92630. Officers:Benjamin Y. Glaraga, CEO (Qualifying Individual), Teresita R. Glarage, CFO.

Ocean Freight Forwarder—Ocean Transportation Intermediary Applicants:

Budget Freight Forwarding Corp., 2010 NW. 98th Way, Pembroke Pines, FL 33024. Officer:Steven James Sosa, President (Qualifying Individual).

Allen & Sally Associates, LLC dba USA Customs, Brokers & Freight Forwarders, 7094 Peachtree Industrial Blvd., Ste. 270, Norcross, GA 30071. Officers:Aizhong Gou, President (Qualifying Individual), Sally Hui Li, Co-President.

Dated: February 9, 2007.
Bryant L. VanBrakle,
Secretary.

[FR Doc. E7-2533 Filed 2-13-07; 8:45 am]

BILLING CODE 6730-01-P